DEPARTMENT OF TRANSPORTATION

Office of the Secretary

Notice of Applications for Certificates of Public Convenience and Necessity and Foreign Air Carrier Permits Filed Under Subpart B (Formerly Subpart Q) During the Week Ending November 6, 2010

The following Applications for Certificates of Public Convenience and Necessity and Foreign Air Carrier Permits were filed under Subpart B (formerly Subpart Q) of the Department of Transportation's Procedural Regulations (See 14 CFR 301.201 et seq.). The due date for Answers, Conforming Applications, or Motions To Modify Scope are set forth below for each application. Following the Answer period DOT may process the application by expedited procedures. Such procedures may consist of the adoption of a show-cause order, a tentative order, or in appropriate cases a final order without further proceedings.

Docket Number: DOT-OST-2010-0276.

Date Filed: November 5, 2010.

Due Date for Answers, Conforming Applications, or Motion To Modify Scope: November 26, 2010.

Description: Application of Volga-Dnepr Airlines LLC requesting a foreign air carrier permit to engage in charter foreign air transportation of property and mail between any point or points in the Russian Federation and any point or points in the United States and other all cargo charters.

Renee V. Wright,
Program Manager, Docket Operations, Federal Register Liaison.

[FR Doc. 2010-31718 Filed 12-16-10; 8:45 am]

BILLING CODE 4910-9X-P